DEPARTMENT OF AGRICULTURE

Submission for OMB Review; Comment Request

September 2, 2004.

The Department of Agriculture has submitted the following information collection requirement(s) to OMB for review and clearance under the Paperwork Reduction Act of 1995, Pub. L. 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Pamela_Beverly_OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Farm Service Agency

Title: Total Quality Systems Audit.

OMB Control Number: 0560-0214.

Summary of Collection: The Total Quality System Audit (TQSA) is a fee for service audit based quality verification program for food processors and other food related manufacturers and non-manufacturers. The TQSA team coordinates the audit with the supplier's management. The team makes detailed assessments of the company's production facilities, equipment, and procedures. The statutory requirements for this information collection can be found at 21 CFR Parts 110 Current Good Manufacturing Practices and Federal Acquisition Regulation subparts 9.1 Responsible Prospective Contractors and 46.4 Government Contract Quality Assurance.

Need and Use of the Information: The Farm Service Agency ( FSA) will collect information using forms KC-1TQ, Total Quality Systems Audit-Audit Summary, KC-3TQ, Total Quality Systems Audit-Corrective Action Request (CAR) and KC-3TQer, Total Quality Systems Audit “ Corrective Action Request (CAR) Electronic Response. FSA will collect records pertaining to organization, production or service, work procedures, quality testing, shipping, sub-supplier, certifications, delivery, proof of domestic origin, and all FSA contract documents. The information will be used to determine the eligibility for and awarding of contracts.

Description of Respondents: Business or other-for-profit; Not-for-profit institutions; State, Local and Tribal Government.

Number of Respondents: 200.

Frequency of Responses: Recordkeeping; Reporting: Quarterly; Semi-annually; Annually.

Total Burden Hours: 96,200.

Sondra Blakey,
Departmental Information Collection Clearance Officer.

[FR Doc. 04-20380 Filed 9-8-04; 8:45 am]

BILLING CODE 3410-05-P